DEPARTMENT OF ENERGY

Federal Energy Regulatory Commission

[Docket No. ER13-1124-000]

New York Independent System Operator, Inc.; Notice of Motion for Tariff Waiver and Expedited Action

On March 15, 2013, New York Independent System Operator, Inc. (NYISO) filed a motion for limited tariff waivers of section 5.16.4 and, to the extent necessary, section 5.16.3 of its Market Administration and Control Area Services Tariff (Services Tariff). First, NYISO seeks a limited waiver of section 5.16.4 of its Services Tariff to give it an extra thirty (30) calendar days, i.e., until April 30, 2013, to comply with the requirement that it report on the results of the New Capacity Zone Study and submit tariff revisions to “establish and recognize” one or more New Capacity Zones (NCZ). The filing is presently due on or before March 31, 2013. Second, to the extent necessary, NYISO requests a limited waiver of the Services Tariff section 5.16.3 deadline regarding the establishment of the Indicative NCZ Locational Minimum Installed Capacity Requirement. NYISO also requests a shortened comment period on the requested waiver and expedited consideration of the request.

Any person desiring to intervene or protest in this proceeding must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Comment Date: 5:00 p.m. Eastern Time on March 25, 2013.

Dated: March 19, 2013.
Kimberly D. Bose,
Secretary.

[FR Doc. 2013-06821 Filed 3-25-13; 8:45 am]

BILLING CODE 6717-01-P